DEPARTMENT OF THE INTERIOR

National Park Service

[NPS-WASO-NAGPRA-NPS0038391; PPWOCRADN0-PCU00RP14.R50000]

Notice of Inventory Completion: University of North Carolina at Charlotte, Charlotte, NC

AGENCY: National Park Service, Interior.

ACTION: Notice.

SUMMARY: In accordance with the Native American Graves Protection and Repatriation Act (NAGPRA), the University of North Carolina at Charlotte (UNC Charlotte) has completed an inventory of human remains and has determined that there is no lineal descendant and no Indian Tribe or Native Hawaiian organization with cultural affiliation.

DATES: Upon request, repatriation of the human remains in this notice may occur on or after September 5, 2024.

ADDRESSES: Sara Juengst, UNC Charlotte, 9201 University City Boulevard, Barnard 224, Charlotte, NC 28223, telephone (216) 269-1807, email sjuengst@charlotte.edu.

SUPPLEMENTARY INFORMATION: This notice is published as part of the National Park Service's administrative responsibilities under NAGPRA. The determinations in this notice are the sole responsibility of UNC Charlotte, and additional information on the determinations in this notice, including the results of consultation, can be found in its inventory or related records. The National Park Service is not responsible for the determinations in this notice.

Abstract of Information Available

Human remains representing, at least, one individual have been identified. No associated funerary objects are present. This includes the cranium of one individual. These remains were uncovered in Haywood County, NC, in 1986 and transferred to the Haywood Country Sheriff's office, then the NC Medical Examiner's office in Chapel Hill, NC. They came to UNC Charlotte sometime thereafter. No known hazardous substances have been used to treat the remains.

Consultation

Invitations to consult were sent to the Cherokee Nation; Eastern Band of the Cherokee Indians; and the United Keetoowah Band of Cherokee Indians in Oklahoma.

Cultural Affiliation

The following types of information about the cultural affiliation of the human remains in this notice are available: biological, geographical, historical. The information, including the results of consultation, identified:

1. No earlier group connected to the human remains.

2. The Cherokee Nation; Eastern Band of the Cherokee Indians; and the United Keetoowah Band of Cherokee Indian in Oklahoma as the Indian Tribes connected to the human remains.

3. No relationship of shared group identity between the earlier group and the Indian Tribe or Native Hawaiian organization that can be reasonably traced through time.

Determinations

UNC Charlotte has determined that:

• The human remains described in this notice represent the physical remains of one individual of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after September 5, 2024. If competing requests for repatriation are received, UNC Charlotte must determine the most appropriate requestor prior to repatriation. Requests for joint repatriation of the human remains are considered a single request and not competing requests. UNC Charlotte is responsible for sending a copy of this notice to any consulting lineal descendant, Indian Tribe, or Native Hawaiian organization.

Authority: Native American Graves Protection and Repatriation Act, 25 U.S.C. 3003, and the implementing regulations, 43 CFR 10.10.

Dated: July 25, 2024.
Melanie O'Brien,
Manager, National NAGPRA Program.

[FR Doc. 2024-17253 Filed 8-5-24; 8:45 am]

BILLING CODE 4312-52-P